DEPARTMENT OF TRANSPORTATION

Federal Aviation Administration

14 CFR Part 39

[Docket No. FAA-2012-0721; Directorate Identifier 2012-NM-076-AD; Amendment 39-17356; AD 2013-03-22]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-600-2B19 (Regional Jet Series 100 & 440) airplanes. This AD was prompted by reports that airplanes with a Class C cargo (baggage) compartment have liners that do not meet flammability requirements. This AD requires replacing the existing cargo compartment liners with liners that comply. We are issuing this AD to prevent inadequate fire protection in the cargo compartment and consequent uncontrolled fire.

DATES: This AD becomes effective April 17, 2013.

The Director of the Federal Register approved the incorporation by reference of certain publications listed in this AD as of April 17, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Cesar Gomez, Aerospace Engineer, Airframe and Mechanical Systems Branch, ANE-171, FAA, New York Aircraft Certification Office, 1600 Stewart Avenue, Suite 410, Westbury, New York 11590; telephone 516-228-7318; fax 516-794-5531.

SUPPLEMENTARY INFORMATION:

Discussion

We issued a notice of proposed rulemaking (NPRM) to amend 14 CFR part 39 to include an AD that would apply to the specified products. That NPRM was published in the Federal Register on July 19, 2012 (77 FR 42457). That NPRM proposed to correct an unsafe condition for the specified products. The Mandatory Continuing Airworthiness Information (MCAI) states:

It was found that the cargo compartment liners installed on CL-600-2B19 configured with Class C cargo compartment do not all meet the flammability requirements. Non-compliant cargo compartment liners may not provide adequate fire protection and could lead to an uncontrolled baggage bay fire.

This [Canadian] AD mandates the replacement of existing cargo compartment liners with compliant cargo compartment liners.

Aeroplanes modified with [Transport Canada Civil Aviation] Supplemental Type Certificate (STC) Number SA01-19 Issue No. 1 [corresponding FAA STC ST01292NY, amended July 7, 2003 http://www.airweb.faa.gov/Regulatory_and_Guidance_Library/rgstc.nsf/0/1BB5140B1D3A130086256D7A006DF851?OpenDocument&Highlight=st01292ny] Cargo Liner Replacement Panels are also affected by this [Canadian] AD.

You may obtain further information by examining the MCAI in the AD docket.

Comments

We gave the public the opportunity to participate in developing this AD. We considered the comments received.

Request To Change Applicability

Air Wisconsin (AWI) requested that we change the applicability to either specify airplane serial numbers (S/Ns) 7003 though 7067 inclusive, and S/Ns 7069 through 7857 inclusive, including airplanes modified by STC ST01292NY, amended July 7, 2003 (http://www.airweb.faa.gov/Regulatory_and_Guidance_Library/rgstc.nsf/0/1BB5140B1D3A130086256D7A006DF851?OpenDocument&Highlight=st01292ny); or specify the airplanes listed in Bombardier Service Bulletin 601R-25-187, Revision A, dated September 1, 2011; Bombardier Service Bulletin 601R-25-198, dated September 1, 2011; and Bombardier Service Bulletin 601R-25-199, dated September 1, 2011. AWI stated that the NPRM (77 FR 42457, July 19, 2012) specifies the applicability as airplane S/Ns 7003 and subsequent, yet each of these Bombardier service bulletins describes the effectivity as airplane S/Ns 7003 thru 7067 inclusive and S/Ns 7069 thru 7857 inclusive, and states that the service bulletin was “validated” on airplane S/N 7362.

We do not agree with the commenter's request to change the applicability. The intent of this AD is to ensure that any Model CL-600-2B19 airplane configured with a Class C cargo compartment be equipped with compliant cargo compartment liners. The Bombardier service information referenced in paragraphs (g)(1) through (g)(3) of this AD has listed airplanes with known Class C cargo compartments. In order to ensure that any subsequently converted airplanes will be equally equipped with compliant Class C cargo compartment liners, this AD must apply to any Model CL-600-2B19 airplane configured with a Class C cargo compartment. We have not changed the AD in this regard.

Requests To Extend Compliance Time

AWI and Pinnacle Airlines (FLG) requested that we extend the compliance time from 28 months to 36 months after the effective date of the AD. Both commenters stated that the service information recommends a compliance time of 36 months. Additionally, both commenters stated that the manufacturer has yet to supply the necessary parts kits. FLG noted that, without the parts kits, it could be put in a position of parking its airplanes. AWI stated that, without kits available, airplanes that are currently having their heavy check visits completed are without the benefit of the cargo compartment liner modification being accomplished.

We do not agree with the commenters' requests to extend the compliance time. In developing an appropriate compliance time for this action, we considered the safety implications, parts availability, and normal maintenance schedules for the timely accomplishment of the modification. Bombardier has confirmed with the FAA and Transport Canada Civil Aviation (TCCA) that parts are available to the operators, and the availability will be such that the operators will be able to incorporate the modification within the compliance time. However, under the provisions of paragraph (k) of this AD, we will consider requests for approval of an extension of the compliance time if sufficient data are submitted to substantiate that the new compliance time would provide an acceptable level of safety. We have not changed the AD in this regard.

Request To Change Date of Parts Installation Prohibition or Remove Prohibition

AWI requested that we either remove the paragraph or change the date of the prohibition of the installation of the old style liners (paragraph (i) of the NPRM (77 FR 42457, July 19, 2012)) from the effective date of the AD to 28 months after the effective date of the AD. AWI stated that in order to maintain a pre-modification airplane until the modification required by paragraph (g) of the NPRM is performed, the operator needs to have the flexibility to install the old style liners when replacing any that might become damaged.

We agree to change the date of the prohibition of the installation of the old style liners for certain airplanes. We have changed paragraph (j)(1) of this AD (referred to as paragraph (i) of the NPRM (77 FR 42457, July 19, 2012)) to state that the installation of the old style liners for airplane S/Ns 7003 through 7857 inclusive is prohibited after completion of the cargo compartment liner modification required by paragraph (g) of this AD, which is required within 28 months after the effective date of this AD.

We have also added new paragraph (j)(2) to this AD, which states that the installation of the old style liners for airplane S/Ns 7858 and subsequent is prohibited as of the effective date of this AD. Airplane S/Ns 7858 and subsequent are/were not delivered with a class C cargo compartment. Paragraph (j)(2) of this AD prevents these airplanes from having the identified unsafe cargo liners installed if they are converted to class C cargo compartments.

Request To Use Certain STC Parts

AWI requested that we change the NPRM (77 FR 42457, July 19, 2012) to allow the installation of inserts, which are necessary for the installation of the rear wall liners in the floor panels specified in STC ST00560NY, amended June 29, 2001 (http://rgl.faa.gov/Regulatory_and_Guidance_Library/rgstc.nsf/0/78C85CD7FA9FAFA585256CC2006A74D0?OpenDocument&Highlight=st00560ny). AWI stated that Bombardier Service Bulletin 601R-25-187, Revision A, dated September 1, 2011, does not mention these aftermarket panels and recognizes only the original equipment manufacturer floor panels.

We agree with the commenter's request. We have added new paragraph (h) to this AD, which states that Comtek Advanced Structures floor panels approved under STC ST00560NY, amended June 29, 2001 (http://rgl.faa.gov/Regulatory_and_Guidance_Library/rgstc.nsf/0/78C85CD7FA9FAFA585256CC2006A74D0?OpenDocument&Highlight=st00560ny), are considered equivalent to the original equipment floor panels described in Bombardier Service Bulletin 601R-25-187, Revision A, dated September 1, 2011, and may be used in lieu of the floor panels described in Bombardier Service Bulletin 601R-25-187, Revision A, dated September 1, 2011. We have re-identified subsequent paragraphs accordingly.

Request To Approve Past or Future Repairs

AWI requested that we make accommodation in the NPRM (77 FR 42457, July 19, 2012) for previously approved or future approved repairs/repair schemes without the need for alternative methods of compliance (AMOC) to do those repairs. AWI stated that the cargo compartment liners take quite a bit of abuse during loading/unloading operations and are frequently in need of repair to maintain serviceability. AWI pointed out that there are existing approved repairs for the liners in the airplane maintenance manual and/or service repair manual.

We disagree with the commenter's request. This AD requires the installation of compliant cargo compartment liners. After accomplishing the actions required by this AD, maintenance and/or preventive maintenance under 14 CFR part 45 is permitted provided the maintenance does not result in changing the AD-mandated configuration (reference 14 CFR 39.7). We have not changed the AD in this regard.

Conclusion

We reviewed the available data, including the comments received, and determined that air safety and the public interest require adopting the AD with the changes described previously-and minor editorial changes. We have determined that these changes:

• Are consistent with the intent that was proposed in the NPRM (77 FR 42457, July 19, 2012) for correcting the unsafe condition; and

• Do not add any additional burden upon the public than was already proposed in the NPRM (77 FR 42457, July 19, 2012).

Costs of Compliance

We estimate that this AD will affect 574 products of U.S. registry. We also estimate that it will take about 87 work-hours per product to comply with the basic requirements of this AD. The average labor rate is $85 per work-hour. Required parts will cost about $43,559 per product. Where the service information lists required parts costs that are covered under warranty, we have assumed that there will be no charge for these parts. As we do not control warranty coverage for affected parties, some parties may incur costs higher than estimated here. Based on these figures, we estimate the cost of this AD to the U.S. operators to be $29,247,596, or $50,954 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 42457, July 19, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-22 Bombardier, Inc.: Amendment 39-17356. Docket No. FAA-2012-0721; Directorate Identifier 2012-NM-076-AD.

(a) Effective Date

This airworthiness directive (AD) becomes effective April 17, 2013.

(b) Affected ADs

None.

(c) Applicability

This AD applies to Bombardier, Inc. Model CL-600-2B19 (Regional Jet Series 100 & 440) airplanes, certificated in any category, serial numbers (S/Ns) 7003 and subsequent, configured with a Class C cargo compartment, including airplanes modified by Supplemental Type Certificate (STC) ST01292NY, amended July 7, 2003 (http://www.airweb.faa.gov/Regulatory_and_Guidance_Library/rgstc.nsf/0/1BB5140B1D3A130086256D7A006DF851?OpenDocument&Highlight=st01292ny).

(d) Subject

Air Transport Association (ATA) of America Code 25, Equipment/furnishings.

(e) Reason

This AD was prompted by reports that airplanes with a Class C cargo (baggage) compartment have liners that do not meet flammability requirements. We are issuing this AD to prevent inadequate fire protection in the cargo compartment and consequent uncontrolled fire.

(f) Compliance

You are responsible for having the actions required by this AD performed within the compliance times specified, unless the actions have already been done.

(g) Actions

Within 28 months after the effective date of this AD, replace the cargo compartment liners, in accordance with the Accomplishment Instructions of the applicable service bulletin specified in paragraphs (g)(1) through (g)(3) of this AD, except as provided by paragraph (h) of this AD. For airplanes that do not have a configuration specified in paragraphs (g)(1) through (g)(3) of this AD: Prior to accomplishing the replacement, convert the cargo compartment liner to one of the configurations specified in paragraphs (g)(1) through (g)(3) of this AD, in accordance with a method approved by the Manager, New York Aircraft Certification Office (ACO), ANE-170, FAA; or Transport Canada Civil Aviation (TCCA) (or its delegated agent). To meet the requirements of this AD, the applicable Bombardier service bulletin or COMTEK service bulletin must be followed in its entirety, except as provided by paragraph (h) of this AD, with no mixing of Bombardier-supplied or COMTEK-supplied liners.

(1) For airplanes with North American cargo compartment configuration: Bombardier Service Bulletin 601R-25-187, Revision A, dated September 1, 2011; or COMTEK Service Bulletin COMSB-25-52-001, Revision A, dated December 29, 2011.

Note (1) to paragraph (g)(1) of this AD: COMTEK Service Bulletin COMSB-25-52-001, Revision A, dated December 29, 2011, installs STC ST01292NY amended July 7, 2003 (http://www.airweb.faa.gov/Regulatory_and_Guidance_Library/rgstc.nsf/0/1BB5140B1D3A130086256D7A006DF851?OpenDocument&Highlight=st01292ny), (which corresponds to TCCA STC SA01-19, Issue 2, dated December 21, 2011 (http://www.regulations.gov/contentStreamer?objectId=0900006481216f85&disposition=attachment&contentType=pdf)) flammability-compliant cargo liner replacement panels.

(2) For airplanes with European cargo compartment configuration: Bombardier Service Bulletin 601R-25-198, dated September 1, 2011.

(3) For airplanes with Universal cargo compartment configuration: Bombardier Service Bulletin 601R-25-199, dated September 1, 2011.

(h) Alternative Floor Panel

Comtek Advanced Structures floor panels approved under STC ST00560NY, amended June 29, 2001 (http://rgl.faa.gov/Regulatory_and_Guidance_Library/rgstc.nsf/0/78C85CD7FA9FAFA585256CC2006A74D0?OpenDocument&Highlight=st00560ny), are considered equivalent to the original equipment floor panels described in Bombardier Service Bulletin 601R-25-187, Revision A, dated September 1, 2011, and may be used in lieu of the floor panels described in Bombardier Service Bulletin 601R-25-187, Revision A, dated September 1, 2011.

(i) Credit for Previous Actions

This paragraph provides credit for certain actions specified in paragraph (g)(1) of this AD, if those actions were performed before the effective date of this AD using Bombardier Service Bulletin 601R-25-187, dated July 21, 2011, which is not incorporated by reference in this AD.

(j) Parts Installation Prohibition

(1) For airplane S/Ns 7003 through 7857 inclusive: After completing the actions required by paragraph (g) of this AD, no person may install a cargo compartment liner, identified as “Pre-SB Part Number” in paragraph 1.M. of the applicable Bombardier service bulletins identified in paragraphs (g)(1) through (g)(3) of this AD; “Pre-SB P/N” in paragraph 3.D. of COMTEK Service Bulletin COMSB-25-52-001, Revision A, dated December 29, 2011; or FAA STC ST01292NY, amended July 7, 2003 (http://www.airweb.faa.gov/Regulatory_and_Guidance_Library/rgstc.nsf/0/1BB5140B1D3A130086256D7A006DF851?OpenDocument&Highlight=st01292ny); on any airplane.

(2) For airplane S/Ns 7858 and subsequent: As of the effective date of this AD, no person may install a cargo compartment liner, identified as “Pre-SB Part Number” in paragraph 1.M. of the Bombardier service bulletins identified in paragraphs (g)(1) through (g)(3) of this AD; “Pre-SB P/N” in paragraph 3.D. of COMTEK Service Bulletin COMSB-25-52-001, Revision A, dated December 29, 2011; or FAA STC ST01292NY, amended July 7, 2003 (http://www.airweb.faa.gov/Regulatory_and_Guidance_Library/rgstc.nsf/0/1BB5140B1D3A130086256D7A006DF851?OpenDocument&Highlight=st01292ny); on any airplane.

(k) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to MCAI Canadian Airworthiness Directive CF-2012-11, dated March 23, 2012, and the service information identified in paragraphs (l)(1)(i) through (l)(1)(iv) of this AD, for related information.

(i) Bombardier Service Bulletin 601R-25-187, Revision A, dated September 1, 2011.

(ii) Bombardier Service Bulletin 601R-25-198, dated September 1, 2011.

(iii) Bombardier Service Bulletin 601R-25-199, dated September 1, 2011.

(iv) COMTEK Service Bulletin COMSB-25-52-001, Revision A, dated December 29, 2011.

(2) For Bombardier service information identified in this AD, contact Bombardier, Inc., 400 Côte-Vertu Road West, Dorval, Québec H4S 1Y9, Canada; telephone 514-855-5000; fax 514-855-7401; email thd.crj@aero.bombardier.com; Internet http://www.bombardier.com. You may review copies of the referenced service information at the FAA, Transport Airplane Directorate, 1601 Lind Avenue SW., Renton, WA. For information on the availability of this material at the FAA, call 425-227-1221.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier Service Bulletin 601R-25-187, Revision A, dated September 1, 2011.

(ii) Bombardier Service Bulletin 601R-25-198, dated September 1, 2011.

(iii) Bombardier Service Bulletin 601R-25-199, dated September 1, 2011.

(iv) COMTEK Service Bulletin COMSB-25-52-001, Revision A, dated December 29, 2011.

(3) For Bombardier service information identified in this AD, contact Bombardier, Inc., 400 Côte-Vertu Road West, Dorval, Québec H4S 1Y9, Canada; telephone 514-855-5000; fax 514-855-7401; email thd.crj@aero.bombardier.com; Internet http://www.bombardier.com.

(4) For COMTEK service information identified in this AD, contact Comtek Advanced Structures, 1360 Artisans Court, Burlington, Ontario, Canada, L7L 5Y2; telephone 905-331-8121; fax 905-331-8125; Internet http://www.comtekadvanced.com.

(5) You may review copies of the service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on February 7, 2013.
Ali Bahrami,
Manager, Transport Airplane Directorate, Aircraft Certification Service.

[FR Doc. 2013-04634 Filed 3-12-13; 8:45 am]

BILLING CODE 4910-13-P